DEPARTMENT OF HEALTH AND HUMAN SERVICES

National Institutes of Health

National Institute of Allergy and Infectious Diseases; Amended Notice of Meeting

Notice is hereby given of a change in the meeting of the National Institute of Allergy and Infectious Diseases Special Emphasis Panel, October 10, 2013, 09:00 a.m. to October 10, 2013, 03:00 p.m., National Institutes of Health, 6700 B Rockledge Drive, 3137, Bethesda, MD, 20892 which was published in the Federal Register on September 16, 2013, 78 FR 56904.

The meeting notice is amended to change the date of the meeting from October 10, 2013 to December 5, 2013. The meeting is closed to the public.

Dated: November 5, 2013.
David Clary,
Program Analyst, Office of Federal Advisory Committee Policy.

[FR Doc. 2013-26906 Filed 11-8-13; 8:45 am]

BILLING CODE 4140-01-P